NUCLEAR REGULATORY COMMISSION

[Docket No. 50-201; NRC-2021-0175]

New York State Energy Research and Development Authority; Irradiated Nuclear Fuel Processing Plant; Western New York Nuclear Service Center

AGENCY: Nuclear Regulatory Commission.

ACTION: License amendment; issuance.

SUMMARY: The U.S. Nuclear Regulatory Commission (NRC) has issued an amendment to Facility Provisional Operating License No. CSF-1, issued to New York State Energy Research and Development Authority (NYSERDA), the licensee, for the provisional operation of the Irradiated Nuclear Fuel Processing Plant located at the Western New York Nuclear Service Center (WNYNSC), in Cattaraugus and Erie Counties, New York. The provisional operating license was amended to update the Radiation Protection Program for the Retained Premises of the Licensed Area for “modernization” and as requested by the licensee, to clarify the licensee's health and safety responsibilities as the sole licensee.

DATES: The amendment was issued on November 5, 2021.

ADDRESSES: Please refer to Docket ID NRC-2021-0175 when contacting the NRC about the availability of information regarding this document. You may obtain publicly available information related to this document using any of the following methods:

• Federal Rulemaking Website: Go to https://www.regulations.gov and search for Docket ID NRC-2021-0175. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced is provided the first time that it is mentioned in this document.

• NRC's PDR: You may examine and purchase copies of public documents, by appointment, at the NRC's Public Document Room (PDR), Room P1 B35, One White Flint North, 11555 Rockville Pike, Rockville, Maryland 20852. To make an appointment to visit the PDR, please send an email to PDR.Resource@nrc.gov or call 1-800-397-4209 or 301-415-4737, between 8:00 a.m. and 4:00 p.m. (ET), Monday through Friday, except Federal holidays.

FOR FURTHER INFORMATION CONTACT: Amy Snyder, Office of Nuclear Material Safety and Safeguards, U.S. Nuclear Regulatory Commission, Washington, DC 20555-0001, telephone: 301-415-6822, email: Amy.Snyder@nrc.gov.

SUPPLEMENTARY INFORMATION: The NRC has issued Amendment No. 33 to Facility Provisional Operating License No. CSF-1, issued to NYSERDA (the license), which revised the Provisional Operating License for the WNYSC, Irradiated Nuclear Fuel Processing Plant (the facility), located in Cattaraugus and Erie Counties, New York. The amendment and related documents are listed in the Safety Evaluation enclosed with the amendment (ADAMS Access No. ML21245A246). The amendment was effective as of the date of its issuance.

The NRC has issued an amendment to Facility Provisional Operating License No. CSF-1. The amendment updates the Radiation Protection Program for the “retained premises of the licensed area” for modernization. In addition, as requested by the licensee, the license is amended to clarify the NYSERDA's, the sole licensee, health and safety and other responsibilities under the license. NYSERDA defines the “retained premises of the licensed area” as the area consisting of the WNYNSC, not including the U.S. Department of Energy (DOE) West Valley Demonstration Project (WVDP) premises and the State Licensed Disposal Area. Although portions of the site are actively being decommissioned by DOE under the West Valley Demonstration Project Act, 42 U.S.C. 2021a note, Public Law 96-868, 94 Stat. 1347 (1980) (WVDPA), NYSERDA retains responsibility for the portions of the site known as the “retained premises.”

The application for the amendment complies with the standards and requirements of the Atomic Energy Act of 1954, as amended (the Act), and the Commission's rules and regulations. The Commission has made appropriate findings as required by the Act and the Commission's rules and regulations in Chapter I of title 10 of the Code of Federal Regulations (10 CFR), which are set forth in the license amendment.

A notice of consideration of issuance of amendment and proposed no significant hazards consideration determination and opportunity for hearing in connection with this action was published in the Federal Register on March 10, 2021 (86 FR 13762). No request for a hearing or petition for leave to intervene was filed.

Under its regulations, the Commission may issue and make an amendment immediately effective, where it has determined that no significant hazards consideration is involved. The Commission has applied the standards of 10 CFR 50.92 and has made a final determination that the amendment involves no significant hazards consideration. The basis for this determination is contained in the Safety Evaluation related to this action. Accordingly, as previously described, the amendment has been issued and made immediately effective.

The Commission prepared an environmental assessment (86 FR 60919), published on November 4, 2021, related to the action and has concluded that an environmental impact statement is not warranted because there will be no environmental impact attributable to the action beyond that which has been predicted and described in the Commission's final environmental statement for the facility dated November 1, 2021 (ML21245A012).

For further details with respect to this action, see the application for amendment dated March 11, 2020 (ML20076C310), as supplemented by letters dated October 28, 2020 (ML20311A200), July 15, 2021 (ML21202A212), September 10, 2021 (ADAMS Package Accession No. ML21281A019), and email dated October 12, 2021 (ML21286A001).

Dated: November 10, 2021.
For the Nuclear Regulatory Commission.
Bruce A. Watson,
Chief,Reactor Decommissioning Branch,Decommissioning, Uranium Recovery, and Waste Programs,Office of Nuclear Material Safety and Safeguards.

[FR Doc. 2021-24950 Filed 11-15-21; 8:45 am]

BILLING CODE 7590-01-P